SECURITIES AND EXCHANGE COMMISSION

[File No. 500-1]

Green and Hill Industries, Inc.; Order of Suspension of Trading

August 5, 2014.

It appears to the Securities and Exchange Commission that there is a lack of current and accurate information concerning the securities of Green and Hill Industries, Inc., d/b/a Ross' Gold, because of questions regarding the accuracy of publicly available information about the company's operations. Green and Hill Industries, Inc. is a Nevada corporation with its principal place of business located in Toronto, Ontario, Canada. Its stock is quoted on OTC Link, operated by OTC Markets Group Inc., under the ticker: GHIL.

The Commission is of the opinion that the public interest and the protection of investors require a suspension of trading in the securities of the above-listed company.

Therefore, it is ordered, pursuant to Section 12(k) of the Securities Exchange Act of 1934, that trading in the securities of the above-listed company is suspended for the period from 9:30 a.m. EDT on August 5, 2014, through 11:59 p.m. EDT on August 18, 2014.

By the Commission.
Kevin M. O'Neill,
Deputy Secretary.

[FR Doc. 2014-18772 Filed 8-5-14; 4:15 pm]

BILLING CODE 8011-01-P